DEPARTMENT OF TRANSPORTATION

Coast Guard

33 CFR Part 147

[CGD08-01-025]

RIN 2115-AG22

Safety Zones for Outer Continental Shelf Facilities in the Gulf of Mexico

AGENCY: Coast Guard, DOT.

ACTION: Final rule.

SUMMARY: The Coast Guard is establishing safety zones around five petroleum and gas production facilities in the Outer Continental Shelf in the Gulf of Mexico. The facilities, which include four platforms and one moored spar buoy, need to be protected from vessels operating outside the normal shipping channels and fairways. Placing safety zones around these facilities will significantly reduce the threat of allisions, oil spills and releases of natural gas. The regulation prevents all vessels from entering or remaining in specified areas around the platforms except for the following: An attending vessel; a vessel under 100 feet in length overall not engaged in towing; or a vessel authorized by the Eighth Coast Guard District Commander.

DATES: This final rule is effective February 27, 2003.

ADDRESSES: Comments and material received from the public, as well as documents indicated in this preamble as being available in the docket, are part of docket [CGD08-01-025] and are available for inspection or copying at Commander, Eighth Coast Guard District (m), Hale Boggs Federal Bldg., 501 Magazine Street, New Orleans, Louisiana, between 8 a.m. and 3:30 p.m., Monday through Friday, except Federal holidays.

FOR FURTHER INFORMATION CONTACT: Lieutenant (LT) Karrie Trebbe, Project Manager for Eighth Coast Guard District Commander, Hale Boggs Federal Bldg., 501 Magazine Street, New Orleans, LA 70130, telephone (504) 589-6271.

SUPPLEMENTARY INFORMATION:

Regulatory History

On December 10, 2001, the Coast Guard published a notice of proposed rulemaking (NPRM) entitled “Safety Zones for Outer Continental Shelf Facilities in the Gulf of Mexico” in the Federal Register (66 FR 63642). We received one letter, one fax and one phone call commenting on the proposed rule. No public hearing was requested, and none was held.

Background and Purpose

The Coast Guard is establishing safety zones around the following petroleum producing facilities in the Gulf of Mexico: ExxonMobil Hoover Floating OCS Facility, a moored spar buoy, Alaminos Canyon Block 25A (AC25A), located at position 26°56′33″ N, 94°41′19.55″ W; Sir Douglas Morpeth Tension Leg Platform (Morpeth TLP), Ewing Bank Block 921A (EW 921A), located at position 28°02′05.28″ N, 90°01′22.12″ W; Allegheny Tension Leg Platform (Allegheny TLP), Green Canyon Block 254A (GC 254A), located at position 27°41′29.65″ N, 90°16′31.93″ W; Brutus Tension Leg Platform (Brutus TLP), Green Canyon Block 158 (GC 158), located at position 27°47′42.86″ N, 90°38′51.15″ W; and Enchilada Platform, Garden Banks Block 128A (GB 128A), located at position 27°52′31.31″ N, 91°59′11.09″ W.

These five safety zones are in the deepwater area of the Gulf of Mexico. For the purposes of this regulation, the deepwater area is considered to be waters of 304.8 meters (1,000 feet) or greater depth extending to the limits of the Exclusive Economic Zone (EEZ) contiguous to the territorial sea of the United States and extending to a distance up to 200 nautical miles from the baseline from which the breadth of the sea is measured. Navigation in the area of the safety zones consists of large commercial shipping vessels, fishing vessels, cruise ships, tugs with tows and the occasional recreational vessel. The deepwater area also includes an extensive system of shipping safety fairways that crisscross the deepwater area of the Gulf of Mexico. The shipping safety fairways include the Gulf of Mexico East-West Fairway, the entrance/exit route of the Mississippi River, and the Houston-Galveston Safety Fairway as listed in 33 CFR part 166. Significant amounts of vessel traffic occur in or near the various shipping safety fairways in the deepwater area.

ExxonMobil Production Company, AGIP Petroleum Co., Inc. (formerly known as British Borneo USA, Inc), and Shell Exploration and Production requested that the Coast Guard establish safety zones in the Gulf of Mexico around the following: ExxonMobil Production Company moored spar buoy, the ExxonMobil Hoover Floating OCS Facility; AGIP Petroleum Co., Inc. platforms, the Morpeth TLP and the Allegheny TLP; and Shell platforms, the Brutus TLP and the Enchilada Platform.

The request for the safety zones was made due to the high level of shipping activity around the facilities and the safety concerns for both the personnel on board the facilities and the environment. ExxonMobil Production Company, AGIP Petroleum Co., Inc., and Shell Exploration and Production, indicated that the location, production level, and number of personnel on board the facilities make it highly likely that any allision with the facilities would result in a catastrophic event. The Enchilada Platform is located near the edge of a shipping safety fairway. The ExxonMobil Hoover Floating OCS Facility, Brutus TLP, Morpeth TLP and Allegheny TLP are located in open waters where no fixed structures previously existed. All are high production oil and gas drilling platforms producing from 20,000 to 108,000 barrels of oil per day, and are manned with crews ranging from approximately 18 to 160 people.

The Coast Guard reviewed the concerns raised by ExxonMobil Production Company, AGIP Petroleum Co., Inc., and Shell Exploration and Production and agrees that the risk of allision to the facilities and the potential for loss of life and damage to the environment resulting from such an accident warrant the establishment of these safety zones. This regulation would significantly reduce the threat of allisions, oil and natural gas spills, and increase the safety of life, property, and the environment in the Gulf of Mexico. This regulation is issued pursuant to 14 U.S.C. 85 as set out in the authority citation for all of 33 CFR part 147.

Discussion of Comments and Changes

We received one letter, one fax and one phone call commenting on the proposed rule. One comment received telephonically from AGIP Petroleum Co., Inc., indicated that at the time of their original request they were known as British Borneo USA, Inc., but are now known as AGIP Petroleum Co., Inc. Therefore, the name British Borneo USA, Inc., has been replaced throughout the final rule with AGIP Petroleum Co., Inc.

One comment received via fax supported the proposed rule. The comment received by letter notified the Coast Guard that the safety zones encompassed blocks adjacent to each of the facilities that are leased and if one or more of the impacted blocks became available due to relinquishment of a lease then information regarding the zones would be included in the “Information to Lessees in the Final Notice of Sale to potential bidders.” The proposed rule does not have any impact on lessees' vessels and operations in the impacted blocks.

None of the comments received affected the provisions of the proposed rule.

Regulatory Evaluation

This rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (44 FR 11040; February 26, 1979).

We expect the economic impact of this rule to be so minimal that a full Regulatory Evaluation under paragraph 10(e) of the regulatory policies and procedures of DOT is unnecessary. The impacts on routine navigation are expected to be minimal because the safety zones do not encompass any nearby safety fairways.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. Since the offshore facilities are located far offshore, few privately owned fishing vessels and recreational boats/yachts may be operating in the area and alternate routes are available for these vessels. Deviation of their intended course may cause a minimal loss of time (estimated loss of four to ten minutes) to their destination depending on how fast the vessel is traveling. The Coast Guard expects the impact of this regulation on small entities to be minimal.

If you are a small business entity and are significantly affected by this regulation please contact LT Karrie Trebbe, Project Manager for Eighth Coast Guard District Commander, Hale Boggs Federal Bldg., 501 Magazine Street, New Orleans LA 70130, telephone (504) 589-6271.

Assistance for Small Entities

Under section 213(a) of the Small Business Regulatory Enforcement Fairness Act of 1996 (Pub. L. 104-121), we offered to assist small entities in understanding the rule so they could better evaluate its effects on them and participate in the rulemaking processes.

Small businesses may send comments on the actions of Federal Employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this proposed rule and concluded that under figure 2-1, paragraph 34(g), of Commandant Instruction M16475.1D, this rule is categorically excluded from further environmental documentation because this rule is not expected to result in any significant environmental impact as described in the National Environmental Policy Act of 1969 (NEPA). A “Categorical Exclusion Determination” is available in the docket for inspection or copying where indicated under ADDRESSES.

List of Subjects in 33 CFR Part 147

Continental shelf, Marine safety, Navigation (water).

For the reasons discussed in the preamble, the Coast Guard amends 33 CFR part 147 as follows:

PART 147—SAFETY ZONES

1. The authority citation for part 147 continues to read as follows:

Authority: 14 U.S.C. 85; 43 U.S.C. 1333; 49 CFR 1.46.

2. Add §§ 147.815, 147.817, 147.819, 147.821 and 147.823 to read as follows:

§ 147.815 ExxonMobil Hoover Floating OCS Facility safety zone.

(a) Description. The ExxonMobil Hoover Floating OCS Facility, Alaminos Canyon Block 25A (AC25A), is located at position 26°56′33″ N, 94°41′19.55″ W. The area within 500 meters (1640.4 feet) from each point on the structure's outer edge is a safety zone.

(b) Regulation. No vessel may enter or remain in this safety zone except the following:

(1) An attending vessel;

(2) A vessel under 100 feet in length overall not engaged in towing; or

(3) A vessel authorized by the Commander, Eighth Coast Guard District

§ 147.817 Sir Douglas Morpeth Tension Leg Platform safety zone.

(a) Description. The Sir Douglas Morpeth Tension Leg Platform (Morpeth TLP), Ewing Bank Block 921A (EW 921A), is located at position 28°02′05.28″ N, 90°01′22.12″ W. The area within 500 meters (1640.4 feet) from each point on the structure's outer edge is a safety zone.

(b) Regulation. No vessel may enter or remain in this safety zone except the following:

(1) An attending vessel;

(2) A vessel under 100 feet in length overall not engaged in towing; or

(3) A vessel authorized by the Commander, Eighth Coast Guard District.

§ 147.819 Allegheny Tension Leg Platform safety zone.

(a) Description. The Allegheny Tension Leg Platform (Allegheny TLP), Green Canyon Block 254A (GC 254A), is located at position 27°41′29.65″ N, 90°16′31.93″ W. The area within 500 meters (1640.4 feet) from each point on the structure's outer edge is a safety zone.

(b) Regulation. No vessel may enter or remain in this safety zone except the following:

(1) An attending vessel;

(2) A vessel under 100 feet in length overall not engaged in towing; or

(3) A vessel authorized by the Commander, Eighth Coast Guard District.

§ 147.821 Brutus Tension Leg Platform safety zone.

(a) Description. The Brutus Tension Leg Platform (Brutus TLP), Green Canyon Block 158 (GC 158), is located at position 27°47′42.86″ N, 90°38′51.15″ W. The area within 500 meters (1640.4 feet) from each point on the structure's outer edge is a safety zone.

(b) Regulation. No vessel may enter or remain in this safety zone except the following:

(1) An attending vessel;

(2) A vessel under 100 feet in length overall not engaged in towing; or

(3) A vessel authorized by the Commander, Eighth Coast Guard District.

§ 147.823 Enchilada Platform safety zone

(a) Description. The Enchilada Platform, Garden Banks Block 128A (GB 128A), is located at position 27°52′31.31″ N, 91°59′11.09″ W. The area within 500 meters (1640.4 feet) from each point on the structure's outer edge, not to extend into the adjacent East-West Gulf of Mexico Fairway, is a safety zone.

(b) Regulation. No vessel may enter or remain in this safety zone except the following:

(1) An attending vessel;

(2) A vessel under 100 feet in length overall not engaged in towing; or

(3) A vessel authorized by the Commander, Eighth Coast Guard District.

Dated: January 10, 2003.
Roy J. Casto
Rear Admiral, U.S. Coast Guard, Commander, Eighth Coast Guard District.

[FR Doc. 03-1871 Filed 1-27-03; 8:45 am]

BILLING CODE 4910-15-P